DEPARTMENT OF THE INTERIOR

Fish and Wildlife Service

[FWS-R4-ES-2015-N139; FF04E00000-1115-0000 156]

Proposed Joint Programmatic Candidate Conservation Agreement With Assurances and Safe Harbor Agreement in the Saline, Caddo, and Ouachita River (Headwaters) Watersheds, Arkansas

AGENCY: Fish and Wildlife Service, Interior.

ACTION: Notice.

SUMMARY: This notice advises the public that the U.S. Fish and Wildlife Service's Arkansas Ecological Services Field Office (ARFO), the Arkansas Game and Fish Commission (AGFC), the U.S. Department of Agriculture—Natural Resources Conservation Service (NRCS), and The Nature Conservancy (TNC) have applied for enhancement of survival permits (permits) pursuant to the Endangered Species Act of 1973 (Act). The permit application includes a proposal (referred to as the “agreement”) that combines a safe harbor agreement (SHA) for 5 endangered and threatened species and a candidate conservation agreement with assurances (CCAA) for 20 State species of concern. The term of the agreement would be 30 years. If approved, the agreement would allow the applicants to issue certificates of inclusion (CI) to eligible non-Federal landowners throughout the Saline, Caddo, and Ouachita River (Headwaters) Watersheds in Arkansas whose property owner management agreements (POMA) are approved. We invite public comments on these documents.

DATES: We must receive any written comments at our Regional Office (see ADDRESSES) on or before September 25, 2015.

ADDRESSES: You may obtain a copy of the information available by contacting Melvin Tobin, Field Supervisor, Fish and Wildlife Service, Arkansas Ecological Services Field Office, 110 South Amity Road, Suite 300, Conway, AR 72032. Documents are also available for public inspection by appointment during normal business hours at the Fish and Wildlife Service's Regional Office, 1875 Century Boulevard, Suite 200, Atlanta, GA 30345; or at the Arkansas Ecological Services Field Office, Fish and Wildlife Service, 110 Amity Road, Suite 300, Conway, AR 72032. Note that requests for any documents must be in writing to be processed. When you are requesting or commenting on the information provided in this notice, please reference “Programmatic CCAA and SHA in the Saline, Caddo, and Ouachita Rivers” in any correspondence.

FOR FURTHER INFORMATION CONTACT: Mr. Michael Harris, At-Risk Species Coordinator, at the Regional Office (see ADDRESSES), telephone: 404-679-7066; or Mr. Chris Davidson, Endangered Species Program Supervisor, at the Arkansas Field Office (see ADDRESSES), telephone: 501-513-4481.

SUPPLEMENTARY INFORMATION:

We announce the availability of the agreement, which covers the Arkansas fatmucket (Lampsilis powellii), pink mucket (Lampsilis abrupta), spectaclecase (Cumberlandia monodonta), and rabbitsfoot (Quadrula cylindrica cylindrica) mussels, and Harperella (Ptilmnium nodosum), a plant, and a candidate conservation agreement with assurances (CCAA) for 20 State species of concern (collectively “covered species”).

CCAAs and SHAs

Under a CCAA, participating property owners voluntarily undertake management activities on their property to enhance, restore, or maintain habitat benefiting species that may warrant listing under the Act. CCAAs encourage private and other non-Federal property owners to implement conservation efforts for candidate and at-risk species by assuring property owners they will not be subjected to increased property use restrictions should the species become listed as threatened or endangered under the Act. Under a SHA, participating property owners voluntarily undertake management activities on their property to enhance, restore, or maintain habitat benefiting federally listed species under the Act. SHAs encourage private and other non-Federal property owners to implement conservation efforts for federally listed species by assuring property owners they will not be subjected to increased property use restrictions under the Act. Application requirements and issuance criteria for SHAs and CCAAs are found in 50 CFR 17.22(d) and 50 CFR 17.32(d), respectively. Because of the significant overlap between the covered species' habitat requirements and the anticipated beneficial effects from implementation of the voluntary conservation measures, we believe that it is appropriate to combine the CCAA/SHA components in a single agreement for consideration in this notice.

Parties' Agreement

The Agreement describes conservation practices designed to protect and enhance streambed and bankside habitats for the benefit of the covered species on private or non-Federal public lands enrolled under the agreement. Enrolled landowners who implement these measures would receive assurances against take liability for the federally listed species, as well as for the covered species that might become federally listed in the future. Conservation land use practices will vary according to the needs of a particular enrolled landowner. Typical measures include controlling livestock access to streams; protection, enhancement, or restoration of streamside or in-stream habitats; species reintroduction to unoccupied suitable habitat; and other conservation measures that may be developed in the future.

We specifically request information, views, and opinions from the public via this notice on our proposed Federal action, including our determination that the agreement, including its proposed conservation measures, would have minor or negligible effects on the covered species. Therefore, we have determined that the agreement is a “low-effect” project and qualifies for categorical exclusion under the National Environmental Policy Act (NEPA; 42 U.S.C. 4321 et seq.) as provided by the Department of the Interior Manual (516 DM 2 Appendix 1 and 516 DM 6 Appendix 1). A low-effect project involves (1) minor or negligible effects on federally-listed or candidate species or their habitats, and (2) minor or negligible effects on other environmental values or resources. Further, we specifically solicit information regarding the adequacy of the agreement per 50 CFR parts 13 and 17.

Public Comments

Before including your address, phone number, email address, or other personal identifying information in your comment, you should be aware that your entire comment—including your personal identifying information—may be made publicly available at any time. While you can ask us in your comment to withhold your personal identifying information from public review, we cannot guarantee that we will be able to do so.

If you wish to comment, you may submit comments by any one of several methods. Please reference TE 71956B or TE 71959B in such comments. You may mail comments to the Fish and Wildlife Service's Regional Office (see ADDRESSES). You may also comment via the internet to david_dell@fws.gov or michael_harris@fws.gov. Please include your name and return address in your email message. If you do not receive a confirmation from us that we have received your email message, contact us directly at either telephone number listed under FOR FURTHER INFORMATION CONTACT.

Finally, you may hand-deliver comments to either of our offices listed under ADDRESSES.

Covered Area

The agreement covers approximately 439,792 acres of potentially eligible lands in the upper Saline River watershed; 412,556 acres of potentially eligible lands in the upper Ouachita River watershed; and 235,010 acres of potentially eligible lands in the upper Caddo River watershed. Lands eligible to enroll in the agreement include any non-Federal properties within the watershed of the upper Saline, Caddo, and Ouachita Rivers.

Next Steps

We will evaluate the enhancement of survival permit application, including the agreement and any comments we receive, to determine whether the applications meet the requirements of section 10(a)(1)(A) of the Act. We will also evaluate whether the section 10(a)(1)(A) enhancement of survival permits would comply with section 7 of the Act by conducting an intra-Service section 7 consultation. If we determine that the requirements are met, we will issue a permit under section 10(a)(1)(A) of the Act to the Applicants in accordance with the applicable regulatory requirements. We will not make our final decision until after the end of the 30-day comment period and will fully consider all comments received during the comment period.

Authority

We provide this notice under section 10 of the Act (16 U.S.C. 1531 et seq.) and NEPA regulations (40 CFR 1506.6).

Dated: July 29, 2015.
Mike Oetker,
Deputy Regional Director.

[FR Doc. 2015-20960 Filed 8-25-15; 8:45 am]

BILLING CODE 4310-55-P